DEPARTMENT OF THE INTERIOR

National Park Service

Notice of Intent to Repatriate Cultural Items from Kawaihae, Kohala, Island of Hawaii, HI in the Possession of the Bernice Pauahi Bishop Museum, Honolulu, HI

AGENCY: National Park Service

ACTION: Notice

Notice is hereby given under the Native American Graves Protection and Repatriation Act, 43 CFR 10.10 (a)(3), of the intent to repatriate cultural items in the possession of the Bernice Pauahi Bishop Museum, Honolulu, HI which meet the definition of “unassociated funerary objects” under Section 2 of the Act.

The five cultural items include two wooden images, a feather cape fragment, a wooden funnel, and a bracelet. In 1905, these five cultural items were removed from a lava tube complex in Kawaihae, Kohala, HI by William Wagner and Friedrich A. Haenisch, who transferred these cultural items to the Bishop Museum in 1907.

The 13 cultural items are samples of bark cloth. In 1919, these 13 cultural items from a lava tube complex in Kawaihae, Kohala, HI and donated by David Forbes, William Wagner, and Friedrich A. Haenisch were found in Bishop Museum collections. These cultural items were most likely collected during the 1905 expedition to the Kawaihae site.

The six cultural items are six pieces of bark cloth. In 1921, these six cultural items from a lava tube complex in Kawaihae, Kohala, HI were donated to the Bishop Museum by Robert Van Deusen.

The one cultural item is a piece of bark cloth. In 1923, this cultural item, from a lava tube complex in Kawaihae, Kohala, HI and collected by Jay M. Kuhns, M.D., was donated to the Bishop Museum by Ditley Due Thaanum.

The one cultural item is a piece of a canoe. In 1934, this cultural item from a lava tube complex in Kawaihae, Kohala, HI was donated to the Bishop Museum by D. Billam-Walker.

The nine cultural items include wood, bark cloth, and mat samples. In 1935, these nine cultural items from a lava tube complex in Kawaihae, Kohala, HI were removed by J. Everett Brumaghim and donated to the Bishop Museum in 1939.

The 12 cultural items include bark cloth, mat, and cordage samples. In 1939, these 12 cultural items were removed from a lava tube complex in Kawaihae, Kohala, HI by Kenneth P. Emory of the Bishop Museum and Keith K. Jones.

The two cultural items are two sets of bark cloth samples. In 1939, these two cultural items from a lava tube complex in Kawaihae, Kohala, HI were donated to the Bishop Museum by Julius Rodman.

The one cultural item is a sample of cordage. This cultural item, labeled from a lava tube complex in Kawaihae, Kohala, HI was found in the Bishop Museum's collections in 1939.

The 14 cultural items include a series of mat, cordage, and bark cloth samples. In 1954, these 14 cultural items from a lava tube complex in Kawaihae, Kohala, HI were donated to the Bishop Museum by Mrs. Annabelle L. Ruddle.

The 73 cultural items are bark cloth samples. In 1960, these 73 cultural items from a lava tube complex in Kawaihae, Kohala, HI were donated to the Bishop Museum by Mrs. Cy Gillette. At an earlier date, these cultural items had been give to Mrs. Gillette by Keith K. Jones.

The four cultural items include four binders of bark cloth samples. In 1980, these cultural items from a lava tube complex in Kawaihae, Kohala, HI were donated to the Bishop Museum by John L. Earle, who had collected them at an earlier date.

The four cultural items include four binders of bark cloth samples and a cordage sample. In 1994, these cultural items from a lava tube complex in Kawaihae, Kohala, HI were found in the Bishop Museum's collections.

The 20 cultural items include samples of cordage, mat, and bark cloth. In 1985, these cultural items from a lava tube complex in Kawaihae, Kohala, HI were donated to the Bishop Museum by Catherine Summers, who complied these samples from Bishop Museum collections.

Based on the style and type of the unassociated funerary objects, the manner of interments, and recovery locations from a lava tube complex in Kawaihae, Kohala, HI, these individuals have been determined to be Native American.

Based on the above mentioned information, officials of the Bishop Museum have determined that, pursuant to 43 CFR 10.2(d)(2)(ii), these 168 cultural items are reasonably believed to have been placed with or near individual human remains at the time of death or later as part of the death rite or ceremony and are believed, by a preponderance of the evidence, to have been removed from a specific burial site of an Native American individual. Officials of the Bishop Museum have also determined that, pursuant to 43 CFR 10.2 (e), there is a relationship of shared group identity which can be reasonably traced between these items and the Hawaii Island Burial Council, Hui Malama I Na Kupuna O Hawai'i Nei, the Department of Hawaiian Homelands, and the Office of Hawaiian Affairs.

This notice has been sent to officials of the Hawaii Island Burial Council, Hui Malama I Na Kupuna O Hawai'i Nei, the Department of Hawaiian Homelands, the Office of Hawaiian Affairs, Henry A. Auwae, and Melvin Kalahiki, Sr. Representatives of any other Indian tribe that believes itself to be culturally affiliated with these objects should contact Valerie Free, Unit Manager, Bishop Museum, 1525 Bernice Street, Honolulu, HI 96817, telephone: (808) 847-8205 before May 5, 2000. Repatriation of these objects to the Hawaii Island Burial Council, Hui Malama I Na Kupuna O Hawai'i Nei, the Department of Hawaiian Homelands, and the Office of Hawaiian Affairs may begin after that date if no additional claimants come forward.

Dated: March 22, 2000.
Francis P. McManamon,
Departmental Consulting Archeologist, Manager, Archeology and Ethnography Program.

[FR Doc. 00-8350 Filed 4-4-00; 8:45 am]

BILLING CODE 4310-70-F